DEPARTMENT OF THE INTERIOR

Bureau of Land Management

[LLIDT000000.L11200000.DD0000.241A.00]

Notice of Public Meeting: Joint Meeting of the Boise and Twin Falls Resource Advisory Councils to the Boise and Twin Falls Districts, Bureau of Land Management, U.S. Department of the Interior

AGENCY: Bureau of Land Management, U.S. Department of the Interior.

ACTION: Notice of public meeting.

SUMMARY: In accordance with the Federal Land Policy and Management Act (FLPMA) and the Federal Advisory Committee Act of 1972 (FACA), the U.S. Department of the Interior, Bureau of Land Management (BLM) Boise and Twin Falls District Resource Advisory Councils will hold a meeting as indicated below.

DATES: The meeting will be held April 9, 2009, beginning at 10 a.m. and adjourning at 2 p.m. The meeting will be held at the Snake River Grill meeting room in Hagerman, Idaho, at 611 Frogs Landing. Public comment period will take place from 10:15-10:45 a.m.

FOR FURTHER INFORMATION CONTACT: MJ Byrne, Public Affairs Officer and RAC Coordinator, BLM Boise District, 3948 Development Ave., Boise, ID 83705, Telephone (208) 384-3393, or Heather Tiel-Nelson, Public Affairs Officer and RAC Coordinator for BLM Twin Falls District, 2536 Kimberly Rd., Twin Falls, ID 83301, (208) 736-2352.

SUPPLEMENTARY INFORMATION: In accordance with section 4 of the Federal Lands Recreation Enhancement Act of 2005, a Subcommittee, called a Recreation Resource Advisory Committee, (RRAC) has been established to provide advice to the Secretary of the Interior, through the BLM, in the form of recommendations that relate to public concerns regarding the implementation, elimination or expansion of an amenity recreation fee; or recreation fee program on public lands under the jurisdiction of the U.S. Forest Service and the BLM in both the Boise and Twin Falls Districts located in southern Idaho.

The RRAC met on February 5 to hear proposals from both the Boise and Sawtooth National Forests regarding fee increases or new fee site implementations on various sites. Recommendations formed by the RRAC during the February meeting will be brought before both Boise and Twin Falls District RACs during the meeting on April 9. These recommendations include implementing new fees for the Campbell Creek Boat Launch managed by the Boise National Forest and new fee site implementation or fee increases for several sites managed by the Sawtooth National Forest. Those sites include the following: Baumgartner group site (new group use fee proposal) Abbott, Bird Creek, Willow Creek, Chaparral, Bowns and Canyon campgrounds (fee increases), Schipper and Steer Basin campgrounds (new fee site implementation), Diamondfield Jack campground (fee increase), and the Redfish Lake and Sawtooth Valley cabins (new fee site implementation). Agenda items and location may change due to changing circumstances, including emergencies. All RRAC and RAC meetings are open to the public. Each Subcommittee and full Joint RAC meeting has time allocated in the agenda for hearing public comments. The public may present written or oral comments. Depending on the number of persons wishing to comment and time available, the time for individual oral comments may be limited. Individuals who plan to attend and need special assistance, such as sign language interpretation, tour transportation or other reasonable accommodations, should contact the BLM Coordinators as provided above.

Dated: February 20, 2009.
Bill Baker,
Twin Falls District Manager.

[FR Doc. E9-4004 Filed 2-24-09; 8:45 am]

BILLING CODE 4310-GG-P